FEDERAL COMMUNICATIONS COMMISSION

47 CFR Part 73

[DA 02-749, MB Docket No. 02-75, RM-10151]

Digital Television Broadcast Service; Lynchburg, VA

AGENCY: Federal Communications Commission.

ACTION: Proposed rule.

SUMMARY: The Commission requests comments on a petition filed by WSET, Inc., licensee of station WSET-TV, NTSC channel 13, Lynchburg, Virginia, requesting the substitution of DTV channel 34 for station WSET-TV assigned DTV channel 56. DTV Channel 34 can be allotted to Lynchburg, Virginia, in compliance with the principle community coverage requirements of Section 73.625(a) at reference coordinates (37-18-52 N. and 79-38-04 W.). As requested, we propose to allot DTV Channel 34 to Lynchburg with a power of 660 and a height above average terrain (HAAT) of 625 meters.

DATES: Comments must be filed on or before May 30, 2002, and reply comments on or before June 14, 2002.

ADDRESSES: Federal Communications Commission, 445 12th Street, SW., Room TW-A325, Washington, DC 20554. In addition to filing comments with the FCC, interested parties should serve the petitioner, or its counsel or consultant, as follows: Thomas P. Van Wazer, Jennifer Tatel, Sidley, Austin, Brown & Wood, 1722 Eye Street, NW., Washington, DC 20006 (Counsel for WSET, Inc.).

FOR FURTHER INFORMATION CONTACT: Pam Blumenthal, Media Bureau, (202) 418-1600.

SUPPLEMENTARY INFORMATION: This is a synopsis of the Commission's Notice of Proposed Rule Making, MB Docket No. 02-75, adopted April 1, 2002, and released April 8, 2002. The full text of this document is available for public inspection and copying during regular business hours in the FCC Reference Information Center, Portals II, 445 12th Street, SW., Room CY-A257, Washington, DC, 20554. This document may also be purchased from the Commission's duplicating contractor, Qualex International, Portals II, 445 12th Street, SW., Room CY-B402, Washington, DC, 20554, telephone 202-863-2893, facsimile 202-863-2898, or via-e-mail qualexint@aol.com.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Digital television broadcasting, Television.

For the reasons discussed in the preamble, the Federal Communications Commission proposes to amend 47 CFR part 73 as follows:

PART 73—RADIO, TELEVISION BROADCAST SERVICES

1. The authority citation for part 73 continues to read as follows:

Authority: 47 U.S.C. 154, 303, 334, and 336.

§ 73.622 [Amended]

2. Section 73.622(b), the Table of Digital Television Allotments under Virginia is amended by removing DTV Channel 56 and adding DTV Channel 34 at Lynchburg.

Federal Communications Commission.
Barbara A. Kreisman,
Chief, Video Division, Media Bureau.

[FR Doc. 02-8497 Filed 4-8-02; 8:45 am]

BILLING CODE 6712-01-P